DEPARTMENT OF COMMERCE

International Trade Administration

[A-570-832]

Pure Magnesium From the People's Republic of China: Extension of Time for the Final Results of the Antidumping Duty Administrative Review

AGENCY: Import Administration, International Trade Administration, Department of Commerce.

DATES: Effective Date: October 15, 2010.

FOR FURTHER INFORMATION CONTACT: Laurel LaCivita, AD/CVD Operations, Office 8, Import Administration, International Trade Administration, U.S. Department of Commerce, 14th Street and Constitution Avenue, NW., Washington, DC 20230; telephone: (202) 482-4243.

Background

On June 18, 2010, the Department of Commerce (“the Department”) published the preliminary results of this administrative review for the period May 1, 2008, to April 30, 2009. See Pure Magnesium from the People's Republic of China: Preliminary Results of the 2008-2009 Antidumping Duty Administrative Review, 75 FR 34689 (June 18, 2010). The final results of review are currently due on October 18, 2010.

Extension of Time Limits for the Final Results of Review

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. Completion of the final results of the administrative review within the 120-day period is not practicable because the Department requires additional time to analyze information obtained at verification, evaluate the surrogate value information placed on the record, and consider the arguments raised by the parties in the case and rebuttal briefs and provided at the hearing.

Because it is not practicable to complete this review within the time specified under the Act, we are extending the time period for issuing the final results of the administrative review to 180 days, until December 15, 2010, in accordance with section 751(a)(3)(A) of the Act.

We are publishing this notice pursuant to sections 751(a) and 777(i) of the Act.

Dated; October 7, 2010.
Susan H. Kuhbach,
Acting Deputy Assistant Secretary for Antidumping and Countervailing Duty Operations.

[FR Doc. 2010-26067 Filed 10-14-10; 8:45 am]

BILLING CODE 3510-DS-P